ENVIRONMENTAL PROTECTION AGENCY

[ER-FRL-6657-7]

Environmental Impact Statements; Notice of Availability

Responsible Agency: Office of Federal Activities, General Information (202) 564-7167 or http://www.epa.gov/compliance/nepa.

Weekly receipt of Environmental Impact Statements

Filed November 8, 2004, Through November 12, 2004

Pursuant to 40 CFR 1506.9.

EIS No. 040445, FINAL EIS, AFS, WY, ID, High Mountains Heli-Skiing (HMH) Project, Issuance of a New 5-Year Special Use Permit (SUP) to Continue Operating Guided Helicopter Skiing in Portions of the Bridger-Teton National Forest and Caribou-Targhee National Forest (CTNF), Teton and Lincoln Counties, WY and Teton and Bonneville Counties, ID, Wait Period Ends: December 20, 2004, Contact: Ray Spencer (307) 739-5400.

Revision of FR Notice Published on 09/24/2004: CEQ Wait Period Ending 10/25/2004 has been Reestablished to 12/20/2004. Due to Incomplete Distribution of the FEIS at the time of Filing with USEPA under Section 1506.9 of the CEQ Regulations.

EIS No. 040527, DRAFT EIS, AFS, IN, German Ridge Restoration Project, To Restore Native Hardwood Communities, Implementation, Hoosier National Forest, Tell City Ranger District, Perry County, IN, Comment Period Ends: January 3, 2005, Contact: Ron Ellis (812) 275-5987.

EIS No. 040528, DRAFT EIS, FHW, OH, Eastern Corridor Multi-Modal (Tier 1) Project, To Implement a Multi-Modal Transportation Program between the City of Cincinnati and Eastern Suburbs in Hamilton and Clermont Counties, OH, Comment Period Ends: January 3, 2005, Contact: Mark VonderEmbse (614) 280-6854.

EIS No. 040529, DRAFT EIS, COE, MA, Cape Wind Energy Project, Construct and Operate 30 Wind Turbine Generators on Horseshoe Shoal in Nantucket Sound, MA, Comment Period Ends: January 18, 2005, Contact: Karen Adams (978) 318-8338.

EIS No. 040530, FINAL EIS, FRC, LA, Sabine Pass Liquefied Natural Gas (LNG) and Pipeline Project, Construction and Operation LNG Import Terminal and Natural Gas Pipeline Facilities, Several Permits, Cameron Parish, LA, Wait Period Ends: December 20, 2004, Contact: Thomas Russo (866) 208-3372.

EIS No. 040531, FINAL EIS, AFS, MO, East Fredericktown Project, To Restore Shortleaf Pine, Improve Forest Health, Treat Affected Stands and Recover Valuable Timber Products, Mark Twain National Forest, Potosi/Fredericktown Ranger District, Bollinger, Madison, St. Francois and Ste. Genevieve Counties, MO, Wait Period Ends: December 20, 2004, Contact: Ronnie Raum (573) 364-4621.

EIS No. 040532, FINAL EIS, FHW, IN, IN-25 Transportation Corridor Improvements from I-65 Interchange to U.S. 24, Funding, Right-of -Way and U.S. Army COE Section 404 Permit Issuance, Hoosier Heartland Highway, Tippecanoe, Carroll and Cass Counties, IN, Wait Period Ends: December 20, 2004, Contact: Matt Fuller (317) 226-5234.

EIS No. 040533, FINAL EIS, FHW, WA, WA-104/Edmonds Crossing Project, Connecting Ferries, Bus and Rail, Funding, NPDES Permit and COE Section 10 and 404 Permit, City of Edmonds, Snohomish County, WA, Wait Period Ends: December 20, 2004, Contact: Peter Eun (360) 753-955 .

EIS No. 040534, FINAL EIS, COE, FL, Picayune Strand Restoration (formerly Southern Golden Gate Estates Ecosystem Restoration), Comprehensive Everglades Restoration Plan, Implementation, Collier County, FL, Wait Period Ends: December 20, 2004, Contact: Bradley A. Foster (904) 232-2110.

EIS No. 040535, DRAFT EIS, AFS, UT, Duck Creek Fuels Treatment Analysis, To Reduce Fuels, Enhance Fire-Tolerant Vegetation and Provide Fuel Breaks, Dixie National Forest, Cedard City Ranger District, Kane County, UT, Comment Period Ends: January 3, 2005, Contact: David Swank (435) 865-3700.

Dated: November 16, 2004.
Ken Mittelholtz,
Environmental Protection Specialist, Office of Federal Activities.

[FR Doc. 04-25711 Filed 11-18-04; 8:45 am]

BILLING CODE 6560-50-P